DEPARTMENT OF LABOR

Occupational Safety and Health Administration

[Docket No. OSHA-2007-0043]

TUV SUD America, Inc.: Modification of Scope of Recognition

AGENCY: Occupational Safety and Health Administration (OSHA), Labor.

ACTION: Notice.

SUMMARY: In this notice, OSHA is issuing a notification deleting three test standards from the scope of recognition of the Nationally Recognized Testing Laboratory (NRTL) TUV SUD America, Inc., based on that NRTL's voluntary request that OSHA reduce its scope of recognition.

DATES: This modification of the scope of recognition is effective on August 23, 2013.

FOR FURTHER INFORMATION CONTACT: Information regarding this notice is available from the following sources:

Press inquiries: Contact Mr. Frank Meilinger, Director, OSHA Office of Communications, Room N-3647, U.S. Department of Labor, 200 Constitution Avenue NW., Washington, DC 20210; telephone: (202) 693-1999; email Meilinger.francis2@dol.gov.

General and technical information: Contact David Johnson, NRTL Program, Occupational Safety and Health Administration, Room N-3655, U.S. Department of Labor, 200 Constitution Avenue NW., Washington, DC 20210; telephone (202) 693-2110: email: johnson.david.w@dol.gov. OSHA's Web page includes information about the NRTL Program (see http://www.osha.gov and select “N” in the “A to Z Index” located at the top of the Web page).

Copies of this Federal Register notice: Electronic copies of this Federal Register notice are available under Docket No. OSHA-2006-0043 at http://www.regulations.gov. This Federal Register notice also is available on OSHA's Web page at http://www.osha.gov. Access the Federal Register notice on this Web page by selecting “F” under the “A to Z Index” at the top of the page.

SUPPLEMENTARY INFORMATION:

I. Determination Regarding TUV SUD America, Inc.

TUV SUD America, Inc., (TUVAM) requested that OSHA delete three test standards (see Exhibit 1) from its scope of recognition. Subsection II.D of Appendix A to 29 CFR 1910.7 provides that OSHA must inform the public of such a reduction in scope. Accordingly, OSHA hereby notifies the public that it is deleting the test standards (1) UL 551 Transformer-type Arc-welding Machine, (2) UL 1484 Residential Gas Detectors, and (3) UL 1662 Electric Chain Saws from TUVAM's scope of recognition as of August 23, 2013. As of August 23, 2013, OSHA will no longer accept certifications by TUVAM that products conform to UL 551, UL1484, or UL 1662. OSHA will delete these standards from TUVAM's scope of recognition on the OSHA Web page.

TUVAM must notify those NRTL clients for which TUVAM certified that the clients' products conformed to UL 551, UL 1484, and UL 1662 that TUVAM's scope of recognition no longer includes these standards. TUVAM's notification to each affected client also must inform the client that it must now obtain its product-certification services, with respect to UL 551, UL 1484, and UL 1662, from an NRTL with a scope of recognition that continues to include these standards. TUVAM's notification to each affected client must be in writing and received by the client within two weeks of the date of this notice.

II. Authority and Signature

David Michaels, Ph.D., MPH, Assistant Secretary of Labor for Occupational Safety and Health, 200 Constitution Avenue NW., Washington, DC 20210, authorized the preparation of this notice. Accordingly, the Agency is issuing this notice pursuant to 29 U.S.C. 657(g)(2)), Secretary of Labor's Order No. 1-2012 (77 FR 3912, Jan. 25, 2012), and 29 CFR 1910.7.

Signed at Washington, DC, on August 19, 2013.
David Michaels,
Assistant Secretary of Labor for Occupational Safety and Health.

[FR Doc. 2013-20547 Filed 8-22-13; 8:45 am]

BILLING CODE 4510-26-P